DEPARTMENT OF AGRICULTURE

Grain Inspection, Packers and Stockyards Administration

[01-04-S1]

Designation for the Central Iowa (IA) Area

AGENCY: Grain Inspection, Packers and Stockyards Administration (GIPSA), USDA.

ACTION: Notice.

SUMMARY: GIPSA announces designation of Central Iowa Grain Inspection Corporation to provide official services under the United States Grain Standards Act, as amended (Act).

EFFECTIVE DATE: April 1, 2002.

ADDRESSES: USDA, GIPSA, Janet M. Hart, Chief, Review Branch, Compliance Division, STOP 3604, Room 1647-S, 1400 Independence Avenue, SW, Washington, DC 20250-3604.

FOR FURTHER INFORMATION CONTACT: Janet M. Hart at 202-720-8525, e-mail janhart@gipsadc.usda.gov.

SUPPLEMENTARY INFORMATION: This action has been reviewed and determined not to be a rule or regulation as defined in Executive Order 12866 and Departmental Regulation 1512-1; therefore, the Executive Order and Departmental Regulation do not apply to this action.

In the December 4, 2001, Federal Register (66 FR 63015), GIPSA asked persons interested in providing official services in the geographic area assigned to Central Iowa Grain Inspection Service, Inc., to submit an application for designation. Applications were due by January 2, 2002.

There were two applicants for the Central Iowa area: Central Iowa Grain Inspection Service, Inc., and Kevin D. Bredthauer and Sandra M. Bredthauer, of Des Moines, Iowa, proposing to do business as Central Iowa Grain Inspection Corporation. Both applied for the entire geographic area currently assigned to Central Iowa Grain Inspection Service, Inc. Central Iowa Grain Inspection Service, Inc., is a designated official agency. GIPSA asked for comments on the applicants for providing service in the Central Iowa area in the January 28, 2002, Federal Register (67 FR 3875). Comments were due by February 28, 2002. GIPSA received no comments by the due date. Central Iowa Grain Inspection Service, Inc., subsequently withdrew their application and asked for voluntary cancellation of their designation, effective March 31, 2002.

GIPSA evaluated all available information regarding the designation criteria in Section 7(f)(1)(A) of the Act and, according to Section 7(f)(1)(B), determined that, effective April 1, 2002, and ending March 31, 2005, Central Iowa Grain Inspection Corporation is able to provide official services in the geographic areas specified in the December 4, 2001, Federal Register, for which they applied. Interested persons may obtain official services by calling Central Iowa Grain Inspection Corporation at 515-266-1101.

Authority: Pub. L. 94-582, 90 Stat. 2867, as amended (7 U.S.C. 71 et seq.).

Dated: March 8, 2002.
David R. Shipman,
Acting Administrator, Grain Inspection, Packers and Stockyards Administration.

[FR Doc. 02-7024 Filed 3-22-02; 8:45 am]

BILLING CODE 3410-EN-P